DEPARTMENT OF AGRICULTURE

Food Safety and Inspection Service

9 CFR Part 557

[Docket No. FSIS-2017-0024]

Import Reinspection of Fish of the Order Siluriformes

AGENCY: Food Safety and Inspection Service, USDA.

ACTION: Notification of regulatory enforcement.

SUMMARY: The Food Safety and Inspection Service (FSIS) is announcing that starting August 2, 2017, all shipments of imported Siluriformes fish and fish products entering the United States (U.S.) must be presented at an Official Import Inspection Establishment for reinspection by FSIS personnel.

DATES: Beginning August 2, 2017, FSIS will enforce the regulations in 9 CFR part 557 (9 CFR 557.1-557.8, 557.10-557.19 and 557.24-557.26). All shipments of imported Siluriformes fish and fish products must be presented at an Official Import Inspection Establishment for reinspection by FSIS personnel beginning August 2, 2017.

FOR FURTHER INFORMATION CONTACT: Roberta Wagner, Assistant Administrator, Office of Policy and Program Development; Telephone: (202) 205-0495.

SUPPLEMENTARY INFORMATION:

Background

On December 2, 2015, FSIS published the final rule, “Mandatory Inspection of Fish of the Order Siluriformes and Products Derived from Such Fish,” establishing a mandatory inspection program for fish of the order Siluriformes (80 FR 75590). The final rule set forth regulations in accordance with the provisions of the 2008 and 2014 Farm Bills, which amended the Federal Meat Inspection Act (FMIA) to include all fish of the order Siluriformes as amenable species and specifically provided for the inspection of Siluriformes fish and fish products to be used as human food. The regulations include a new part 557 (9 CFR 557.1-557.8, 557.10-557.19 and 557.24-557.26), “Importation,” which, among other things, requires that all fish and fish products from any foreign country be reinspected before entering the U.S. (9 CFR 557.6(a)(1)).

The final rule was effective on March 1, 2016, but provided an 18-month transitional period until September 1, 2017, to ensure an orderly transition from Food and Drug Administration (FDA) regulatory oversight to the FSIS mandatory fish inspection program. During the transitional period, the Agency is exercising broad discretion in enforcing the new regulatory requirements, except when product is determined to be adulterated (e.g., the product contains a violative residue or is contaminated) or misbranded (e.g., the product is missing a label).

The final rule stated that during the transitional period, imported fish and fish products would be reinspected and subjected to species and residue testing on at least a quarterly basis for each foreign establishment eligible to export fish to the U.S. Further, as discussed in the preamble of the final rule, at the end of the 18-month transitional period, all imported Siluriformes fish and fish product shipments would be reinspected, just as all imported meat and poultry products are reinspected (80 FR 75608). FSIS began selecting shipments of imported Siluriformes for reinspection and residue testing on April 15, 2016.

Reinspection of All Imported Shipments of Siluriformes Fish and Fish Products

The explanatory statement accompanying the Consolidated Appropriations Act, 2017, Public Law 115-31 Stat. 135, enacted May 5, 2017, directs FSIS to begin reinspecting all imported Siluriformes fish and fish product shipments upon the date the Act is enacted (https://www.congress.gov/crec/2017/05/03/CREC-2017-05-03-bk2.pdf). FSIS is issuing this notification announcing that beginning August 2, 2017, all shipments of imported Siluriformes fish and fish product must be presented at an Official Import Inspection Establishment for reinspection by FSIS personnel.

To apply for import reinspection, applicants, typically the Importer of Record, must submit a paper or an electronic inspection application form (FSIS Form 9540-1) to FSIS in advance of the shipment's arrival, but no later than when the entry is filed with the U.S. Customs and Border Protection (CBP) (9 CFR 557.5). The applicant must identify, on the application, the official import inspection establishment where reinspection will occur. The paper import inspection application is available on line at: https://www.fsis.usda.gov/wps/wcm/connect/a8eead0d-23c3-428e-937f-a8a05b09edbb/FSIS-9540-1-Import-Inspection-Application.pdf? MOD=AJPERES.

After August 2, 2017, FSIS will begin taking action in regard to imported fish product that has bypassed FSIS import reinspection, but entered commerce, i.e. “failure to present” (FTP) product.

FSIS will be posting reinspection guidance materials on its Siluriformes Web page https://www.fsis.usda.gov/wps/portal/fsis/topics/inspection/siluriformes.

A list of Official Import Inspection Establishments available to reinspect Siluriformes fish is available on the FSIS Siluriformes Web page https://www.fsis.usda.gov/wps/wcm/connect/b58fa982-8029-4ccb-88c1-1663f32070d9/Siluriformes-I-Houses.pdf?MOD=AJPERES.

FSIS also strongly encourages importers and brokers to communicate and coordinate closely with your FSIS District Office, to facilitate full compliance prior to August 2, 2017 https://www.fsis.usda.gov/wps/portal/informational/districtoffices.

In addition, the Agency will announce any additional information in the Agency's Constituent Update (http://www.fsis.usda.gov/wps/portal/fsis/newsroom/meetings/newsletters/constituentupdates).

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

Done at Washington, DC, on June 26, 2017.
Alfred V. Almanza,
Administrator.

[FR Doc. 2017-13644 Filed 6-30-17; 8:45 am]

BILLING CODE 3410-DM-P